DEPARTMENT OF TRANSPORTATION

Federal Highway Administration

Environmental Impact Statement; Interstate 15: Farmington to Salt Lake City, Utah

AGENCY: Federal Highway Administration (FHWA), Department of Transportation (USDOT).

ACTION: Notice of intent to prepare an environmental impact statement.

SUMMARY: FHWA, on behalf of the Utah Department of Transportation (UDOT), is issuing this notice to advise the public that an EIS will be prepared for proposed transportation improvements on the Interstate 15 corridor from Farmington to Salt Lake City, Utah. Persons or agencies who might be affected by the proposed project are encouraged to comment on the information in this Notice of Intent (NOI). All comments received in response to this NOI will be considered, and any information presented in this NOI, including the preliminary purpose and need, preliminary alternatives, and identified impacts, might be revised in consideration of the comments.

DATES: Comments must be received by May 13, 2022.

ADDRESSES: This NOI is available on the project website (i15eis.udot.utah.gov). Interested parties are invited to submit comments by any of the following methods:

Website: For access to the documents and instructions for submitting comments, go to the project website (i15eis.udot.utah.gov).

Mailing address or for hand delivery or courier: UDOT Environmental Services Division, 4501 South 2700 West, P.O. Box 148450, Salt Lake City, Utah 84114-8450.

Email address: i15eis@utah.gov.

A summary of the comments received will be included in the Draft EIS.

FOR FURTHER INFORMATION CONTACT: Brandon Weston, Director of Environmental Services, UDOT Environmental Services Division, 4501 South 2700 West, P.O. Box 148450, Salt Lake City, Utah 84114-8450; telephone: (801) 965-4603; email: brandonweston@utah.gov. Tiffany Pocock, PE, I-15 EIS Project Manager, UDOT Region One, 166 W Southwell Street, Ogden, Utah 84404-4194; telephone: (801) 965-4612 email: tpocock@utah.gov.

SUPPLEMENTARY INFORMATION: The environmental review, consultation, and other actions required by applicable federal environmental laws for this project are being or have been carried out by UDOT pursuant to 23 U.S.C. 327 and a Memorandum of Understanding dated January 17, 2017, extended to April 29, 2022, and executed by FHWA and UDOT. UDOT, as the assigned National Environmental Policy Act (NEPA) agency, will prepare an EIS to evaluate transportation solutions along I-15 from Farmington to Salt Lake City. The proposed project study area extends on I-15 from the Park Lane interchange (I-15 milepost 325) in Farmington to the 400 South interchange (I-15 milepost 308) in Salt Lake City. The EIS will be conducted in accordance with the requirements of NEPA, as amended (42 United States Code [U.S.C.] Section 4321, et seq.), 23 U.S.C. 139, Council on Environmental Quality (CEQ) regulations implementing NEPA (40 CFR parts 1500-1508), FHWA regulations implementing NEPA (23 CFR 771.101-771.139), and all applicable federal, state, and local governmental laws and regulations. This project is considered a “major project” pursuant to 23 U.S.C. 139.

(a) The Preliminary Purpose and Need for the Proposed Action

The preliminary purpose of this project as identified by UDOT is to improve safety, replace aging infrastructure, provide better mobility for all travel modes, strengthen the state and local economy, and better connect communities along I-15 from Farmington to Salt Lake City. Between Farmington and Salt Lake City, I-15 has aging infrastructure and worsening operational characteristics for the current and projected 2050 travel demand which contribute to decreased safety, increased congestion, lost productivity, and longer travel times. East-west streets that access or cross I-15 are important to connect communities and support other travel modes such as biking, walking, and transit. When I-15 and its interchanges do not support travel demand, traffic is added to the local streets impacting both the regional and local transportation system, and the safe, comfortable, and efficient travel by other modes. Agencies and the public are invited to comment on the purpose and need statement. The purpose and need statement and supporting documentation, including data and public input summary, will be available in the Draft EIS. The purpose and need statement might be revised based on comments received during the comment period on this NOI.

(b) A Preliminary Description of the Proposed Action and Alternatives the Environmental Impact Statement Will Consider

The currently contemplated range of alternatives proposed to be considered in the EIS consists of the following: (1) Taking no action; (2) capacity improvements to I-15 such as adding general-purpose, high-occupancy, or auxiliary lanes and interchange improvements; (3) additional or modified accesses to and from I-15; (4) additional or modified road, bicycle and pedestrian crossings of I-15; (5) additional or modified multimodal connections to FrontRunner stations and regional trails; (6) Transportation System Management (TSM); (7) combinations of any of the above, and (8) other reasonable alternatives identified during the EIS process. Alternatives that do not meet the project's purpose and need or that are otherwise not reasonable will not be carried forward for detailed consideration in the EIS. The alternatives to be retained will be finalized after UDOT considers the comments received during the comment period on this NOI, and the comments will be documented in the Draft EIS. The alternatives might be revised based on UDOT's consideration of public comments. The concepts not retained will also be documented in the Draft EIS.

(c) Brief Summary of Expected Impacts

The EIS will evaluate the expected social, economic, and environmental effects resulting from the implementing the action alternatives and the no action alternative. The following resources are the most sensitive resources in the project area and will be evaluated closely by UDOT:

• Wetlands and Waters of the United States: Project alternatives could require placing fill in waters of the United States and impacts to wetlands considered to be jurisdictional. These impacts would require a permit from the U.S. Army Corps of Engineers (USACE) for the discharge of dredged or fill material into waters of the United States, including wetlands.

• Section 4(f) Resources: Project alternatives might use Section 4(f) parks, recreation resources, and eligible historic properties.

• Land and Water Conservation Fund Act Section 6(f) Resources: Project alternatives might impact several parks that received funds from the Land and Water Conservation Fund Act.

• Environmental Justice Communities: Project alternatives might impact communities eligible for consideration as environmental justice communities that are low-income and minority due to right-of-way requirements, increases in noise, or other environmental factors. UDOT will work closely with the community to avoid, minimize, and mitigate these impacts.

• Property Acquisitions: Project alternatives could require acquiring private properties and relocating the tenants or owners of the properties. UDOT will work closely with the impacted stakeholders and designers to reduce the number of acquisitions and relocations.

The EIS will evaluate the expected impacts of and benefits to the known resources listed above as well as the following resources: Land use, social and community resources, traffic, economics, pedestrian and bicyclist considerations, air quality, noise, water quality, wildlife resources, floodplains, cultural resources, hazardous material sites, and visual resources. The level of review of the identified resources for the EIS will be commensurate with the anticipated effects on each resource from the proposed project and will be governed by the statutory or regulatory requirements protecting those resources.

The analyses and evaluations conducted for the EIS will identify the potential for effects; avoidance measures; whether the anticipated effects would be adverse; and mitigation measures for adverse effects. UDOT welcomes comments on the expected impacts to be analyzed in the Draft EIS during the NOI comment period.

Agencies, stakeholders, and the public are invited to comment on the expected impacts. The environmental impact analysis will not begin until the purpose and need, range of alternatives, and impact categories are finalized based on the public comments on this NOI. UDOT might revise the identification of impacts as a result of considering public comments. The studies to identify the impacts, as well as the analyses of impacts from the retained alternatives, will be presented in the Draft EIS.

(d) Anticipated Permits and Other Authorizations

The project might require a permit from the U.S. Army Corps of Engineers (USACE) under Section 404 of the Clean Water Act and approvals from other agencies such as the U.S. Bureau of Reclamation (USBR) for impacts to USBR facilities in the project area and the National Park Service (NPS) for impacts to Land and Water Conservation Fund Act Section 6(f) resources in the project area. Additional state or local permits that may be required include stream alteration permits (PGP-10) from the Utah Division of Water Rights, Clean Water Act Section 401 Certification from the Utah Division of Water Quality, Clean Water Act Section 402 Utah Pollution Discharge Elimination System General Permit for Construction Activities from the Utah Division of Water Quality, floodplain development permits from local jurisdictions (cities or counties), and other construction related permits (such as Air Quality Approval Orders and Fugitive Dust Emission Control Plan from the Utah Division of Air Quality). This project is considered a “major project” pursuant to 23 U.S.C. 139, and all authorization decisions necessary for construction are anticipated to be completed not later than 90 days after the date when a Record of Decision is issued.

(e) Scoping and Public Review

Agency Coordination

A coordination plan is being prepared to define the agency and public participation procedures for the environmental review process. The plan will establish cooperating and participating agency roles and a review schedule and will be posted on the project website (i15eis.udot.utah.gov). Cooperating agencies have been preliminarily identified to include the USACE, the U.S. Environmental Protection Agency, the USBR, and the NPS.

Agency and Public Review

UDOT will initiate a scoping process in April 2022 to gather information and solicit input after this NOI is issued. During scoping, UDOT will coordinate with agencies, stakeholders, and the public and will provide an opportunity for comment on the draft purpose and need statement for the project, the range of potential alternatives, the draft alternatives screening methodology, and potentially significant environmental issues that will be evaluated in the EIS. A public scoping period will be held between April 11 and May 13, 2022. As part of the scoping process, UDOT will provide an opportunity for public and agency comments on the draft purpose and need statement and alternatives screening methodology memorandum. These documents will be available on the project website (i15eis.udot.utah.gov) on April 11, 2022. Final versions of these documents, along with a scoping summary report, will be available on the project website when they are completed.

Public involvement is a critical component of the project development process and will continue throughout the development of the EIS. All individuals and organizations expressing interest in the project will be able to participate in the process through various public outreach opportunities, and they can sign up to receive email announcements and notifications on the project website (i15eis.udot.utah.gov). These opportunities include, but are not limited to, public meetings and hearing(s), the project website, and press releases. Public notice will be given regarding the time and place of all public meetings and hearing(s). A public scoping period and 30-day public comment period is planned between April 11 and May 13, 2022. Pursuant to 40 CFR 1501.9(d), during the scoping period, all interested parties are requested to provide comments on the draft purpose and need statement, the range of potential alternatives for the project, the draft alternatives screening methodology memorandum, and resources to be considered in the EIS, and to identify any relevant information, studies, or analyses relevant to the project. Written comments or questions should be directed to UDOT representatives at the mail or email addresses provided above.

Public hearings will be held during the course of the EIS, as described below. Generally, the locations, dates, and times for each public hearing will be publicized on the project website (i15eis.udot.utah.gov) and in newspapers with local and regional circulation, including The Salt Lake Tribune, the Deseret News, and the Davis Clipper. Materials will be available at the meetings in English and Spanish, and oral and written comments will be solicited.

Public Hearing on the Draft EIS

Notice of availability of the Draft EIS for public and agency review will be published in the Federal Register and through other methods which will identify where interested parties can review a copy of the Draft EIS. The public hearing will be conducted by UDOT and announced a minimum of 15 days in advance. UDOT will provide information for the public hearing, including the location, date, and time for the meeting, through a variety of means including the project website (i15eis.udot.utah.gov) and by newspaper advertisement.

(f) A Schedule for the Decision-Making Process

After this NOI is issued, UDOT will coordinate with the participating, cooperating, and cooperating/concurring agencies to develop study documentation and the Draft EIS.

• The Draft EIS is anticipated to be issued in 2023.

• The combined Final EIS and Record of Decision is anticipated to be issued in the spring of 2024, within 24 months of the publication of this NOI.

• A Clean Water Act Section 404 permit decision from the USACE and any other federal permits, if necessary, will be obtained within 90 days after the Record of Decision is issued.

(g) Request for Identification of Potential Alternatives, Information, and Analyses Relevant to the Proposed Action

To ensure that a full range of issues related to the project are addressed and all potential issues are identified, UDOT invites comments and suggestions from all interested parties. The project team requests comments and suggestions regarding potential alternatives and impacts and the identification of any relevant information, studies, or analyses of any kind concerning impacts affecting the quality of the human environment. Any information presented in this NOI, including the preliminary purpose and need statement, preliminary range of alternatives, and identification of impacts, might be revised after UDOT considers the comments. The purpose of this request is to bring relevant comments, information, and analyses to UDOT's attention, as early in the process as possible, to enable UDOT to make maximum use of this information in decision making. Comments may be submitted according to the instructions in the ADDRESSES section of this NOI.

(h) Contact Information

For more information, please visit the project website at i15eis.udot.utah.gov. Information requests or comments can also be emailed to i15eis@utah.gov.

UDOT: Brandon Weston, Director of Environmental Services, UDOT Environmental Services Division, 4501 South 2700 West, P.O. Box 148450, Salt Lake City, Utah 84114-8450; telephone: (801) 965-4603; email: brandonweston@utah.gov.

(Catalog of Federal and Domestic Assistance Program Number 20.205, Highway Research, Planning and Construction. The regulations implementing Executive Order 12372 regarding intergovernmental consultation on federal programs and activities apply to this program.)

Dated: March 21, 2022.
Ivan Marrero,
Division Administrator, Federal Highway Administration, Salt Lake City, Utah.

[FR Doc. 2022-06449 Filed 3-25-22; 8:45 am]

BILLING CODE P